DEPARTMENT OF HEALTH AND HUMAN SERVICES

Health Resources and Services Administration

Health Center Program

AGENCY: Health Resources and Services Administration (HRSA), Department of Health and Human Services.

ACTION: Notice of supplemental award.

SUMMARY: HRSA provided supplemental funding to the Association of Clinicians for the Underserved (ACU), a currently funded National Training and Technical Assistance Partner award recipient. ACU leverages data tools and learning collaboratives to enhance current national training and technical assistance activities delivered to health centers to improve their capacity to recruit, develop, and retain their workforce to address national health care workforce shortages.

FOR FURTHER INFORMATION CONTACT: Tracey Orloff, Strategic Partnerships Division Director in the Office of Quality Improvement, at TOrloff@hrsa.gov or 301.443.3197.

SUPPLEMENTARY INFORMATION: Intended Recipient of the Award: Association of Clinicians for the Underserved, Inc.

Amount of Non-Competitive Award: $275,000.

Period of Supplemental Funding: August 2021 to June 2023.

ALN: 93.129.

Authority: Section 330(l) of the Public Health Service Act, 42 U.S.C. 254b(l).

Justification: The National Center for Health Workforce Analysis estimates a shortage of over 23,000 primary care physician positions by 2025. Recruitment and retention programs are needed for health centers to address health care workforce shortages, which limit their ability to deliver comprehensive, culturally competent, high quality primary health care services.

ACU has unique experience developing learning collaboratives and can leverage their Solutions, Training, and Assistance for Recruitment and Retention Center and the Health Center Recruitment & Retention Data Profile Dashboard to advance in-scope training and technical assistance activities focused on enhancing health centers' ability to recruit, retain, and upskill their workforce. Supplemental funding is critical to ensure the timely expansion of the Solutions, Training, and Assistance for Recruitment and Retention Center and dashboard activities that enable health centers to conduct workforce data analysis, develop strategic plans, and enhance recruitment processes to attract and retain providers. ACU has the organizational capacity, expertise, and partnerships with Primary Care Associations, Health Center Controlled Networks, and other National Training and Technical Assistance Partners in place to immediately disseminate resources, tools, and strategies to improve workforce shortages at health centers.

Diana Espinosa,
Acting Administrator.

[FR Doc. 2021-24547 Filed 11-9-21; 8:45 am]

BILLING CODE 4165-15-P